DEPARTMENT OF ENERGY

Federal Energy Regulatory Commission

[Docket No. RP04-266-001]

Midwestern Gas Transmission Company; Notice of Compliance Filing

June 24, 2004.

Take notice that on June 22, 2004, Midwestern Gas Transmission Company (Midwestern) tendered for filing to become part of its FERC Gas Tariff, Third Revised Volume No. 1, the following tariff sheets to become effective June 1, 2004:

Substitute Fourth Revised Sheet No. 247 and Original Sheet No. 247A.

Midwestern states that this filing is made to comply with Paragraph(s) 9 and 11 of the Commission's Order issued on May 28, 2004 in Docket No. RP04-266-000 (107 FERC ¶ 61,218).

Midwestern states that copies of this filing have been sent to all parties of record in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1463 Filed 6-30-04; 8:45 am]

BILLING CODE 6717-01-P